DEPARTMENT OF DEFENSE

48 CFR Part 30

Cost Accounting Standards Administration

AGENCY: Department of Defense (DoD).

ACTION: Notice of public meeting.

SUMMARY: The Director of Defense Procurement is sponsoring a public meeting to discuss the proposed Federal Acquisition Regulation rule on Cost Accounting Standards Administration published in the Federal Register at 65 FR 20854 on April 18, 2000. The Director of Defense Procurement would like to hear the views of interested parties on what they believe to be the key issues pertaining to the proposed rule. A listing of some of the possible issues is included on the Internet Home Page of the Office of Cost, Pricing, and Finance at http://www.acq.osd.mil/dp/cpf.

Upon identification of the key issues, subsequent public meetings will be held to hear views of interested parties regarding specific proposed language and/or recommendations. The dates and times of those meetings will be published on the Internet Home Page of the Office of Cost, Pricing, and Finance.

DATE: The first meeting will be held on August 2, 2000, from 9 a.m. until 1 p.m.

ADDRESSES: The meeting will be held at the National Contract Management Association, 1912 Woodford Drive, Vienna, VA 22182. Directions may be found on the Internet at http://www.acq.osd.mil/dp/cpf.

FOR FURTHER INFORMATION CONTACT: David Capitano, Office of Cost, Pricing, and Finance, by telephone at (703) 695-9764, by FAX at (703) 693-9616, or by e-mail at capitadj@acq.osd.mil.

Michele P. Peterson,
Executive Editor, Defense Acquisition Regulations Council.

[FR Doc. 00-18252 Filed 7-18-00; 8:45 am]

BILLING CODE 5000-04-M